ENVIRONMENTAL PROTECTION AGENCY

[FRL-7874-4]

Targeted Watersheds Grant Program: Call for Nominations

AGENCY: Environmental Protection Agency (EPA).

ACTION: Notice.

SUMMARY: EPA today is announcing the Call for Nominations of watershed proposals under the Targeted Watersheds Grant Program. Formerly called the Watershed Initiative, the Targeted Watersheds Grant Program is a competitive grant program designed to support the protection and restoration of the country's water resources through a holistic watershed approach to water quality management. For fiscal year 2005, Congress has appropriated a total of $18 million for the Program of which $10 million will be directed to nation-wide projects for improving water quality and the remaining $8 million will be directed toward projects in the Chesapeake Bay watershed. Today's notice sets forth the process that will be used for selecting watersheds for the nation-wide projects, and serves as the call for nominations from Governors and Tribal Leaders. Subsequently, EPA will publish a separate notice that will outline the criteria and selection process for Chesapeake Bay nominations.

DATES: The deadline for EPA receipt of nominations, both in hard copy and in electronic form, is May 19, 2005. Nominations and supporting materials received after this deadline will not be considered.

ADDRESSES: Two hard copies of the nomination packages must be submitted in their entirety by express mail or courier service. Deliver one copy to Carol Peterson, Office of Wetlands, Oceans, and Watersheds, USEPA, Room 7136E, 1301 Constitution Avenue, NW., Washington, DC 20004; telephone 202-566-1304. The other copy is to be delivered to the appropriate EPA Regional office (see section IV.E for regional names and addresses). Please mark all submissions ATTN: Targeted Watersheds.

In addition to the hard copies, a portion of the nomination package must also be submitted electronically to the e-mail address provided; the subject line should read “STATE—WATERSHED NAME.” Please follow the detailed instructions provided in section IV.D of the SUPPLEMENTARY INFORMATION section below.

FOR FURTHER INFORMATION CONTACT: Carol Peterson, USEPA, 1200 Pennsylvania Ave., NW., (4501T), Washington, DC, 20460; telephone: 202-566-1304; e-mail: initiative.watershed@epa.gov or one of the Regional contacts listed in section VII of the SUPPLEMENTARY INFORMATION section below. Additional information, forms, and any updated guidance will be posted on EPA's Targeted Watersheds Web site at http://www.epa.gov/owow/watershed/initiative.

SUPPLEMENTARY INFORMATION:

I. Funding Opportunity Description

A. The Targeted Watersheds Grant Program

The Targeted Watersheds Grant Program is built on the fundamental concept of managing water resource use and water quality on a holistic watershed basis. The watershed approach focuses regional and State efforts to integrate water and source water protection programs to support locally-led collaborative efforts within hydrologically defined boundaries that protect and restore our aquatic resources and ecosystems. This approach offers an efficient opportunity to tackle today's environmental challenges. The Targeted Watersheds Grant Program encourages watershed practitioners to examine water-related problems in the context of the larger watershed in which they exist, to develop solutions to those problems by creatively applying the full array of available tools, including Federal, State, and local programs, and to restore and preserve water resources through strategic planning and implementation that draw in public and private sector partners. Both the watershed approach and the Targeted Watersheds Grant Program focus on multi-faceted plans for protecting and restoring water resources that are developed using partnership efforts of diverse stakeholders. Projects selected for funding will go beyond implementing separate, detached activities and will focus on implementing and measuring the effectiveness of an integrated watershed-based approach to conservation and restoration throughout a watershed. Successful nominees will focus on far-reaching approaches that will improve water quality and are consistent with the goals of the Clean Water Act.

B. Goals for 2005

In this third year of the program, EPA will continue to support coalition-based strategies for improving water resources on a watershed level, including activities such as attaining water quality standards, and protecting and restoring the natural and beneficial uses of floodplains. The goal of the Targeted Watersheds Grant Program is to advance successful partnerships and coalitions that have completed the necessary watershed assessments and have a technically sound watershed plan ready to carry out. This Program is intended to encourage the kind of pro-active, and incentive-based protection and restoration measures that will yield cleaner water and better protected ecosystems.

EPA will select projects that are intended to improve water quality and are based on the fundamentals of the Clean Water Act, that is, projects that relate to the prevention, reduction, and elimination of water pollution. The Agency will continue to base its selections on projects that exhibit a high degree of innovation, measurable results, partnerships, outreach and cost-effectiveness. In addition, special emphasis this year will be placed on water quality trading projects. To encourage States, interstate agencies, and tribes to develop and implement water quality trading programs for nutrients, sediments, and other pollutants, EPA will reserve about fifteen percent of the Targeted Watersheds grant funds for promising trading projects that meet the prescribed criteria. While trading projects may take longer to develop and implement due to necessary front-end tasks such as establishing a market framework and identifying applicable trading ratios, EPA is interested in funding trading projects that will result in reduced pollutant loadings in the near to mid-term. Thus, more specific criteria related to trading is provided in this year's solicitation (see section V.A). Examples of trading proposals with these characteristics can be found on the Targeted Watersheds Grant Program Web site at http://www.epa.gov/owow/watershed/initiative/2004/04proposals.html under Passiac River, NJ and Cape Fear River, NC. EPA's Water Quality Trading Policy and other relevant information can be found at http://www.epa.gov/owow/watershed/trading/.

II. Award Information

Approximately $10 million will be available to support nation-wide projects of which fifteen percent will be reserved for trading projects. Funding also will be continued to existing grants that work toward providing services, such as, national tools, training, and technical assistance to all watershed organizations.

EPA anticipates that typical grant awards for the selected watersheds will range from $600,000 to $900,000 depending on the amount requested and the overall size and need of the project. It is important to note that, even if selected to receive a grant, full funding of a proposal is not guaranteed, and EPA reserves the right to make partial awards. For example, the Agency may choose not to fund one particular aspect of the proposal or may choose to decrease a requested award by a certain percentage. EPA also reserves the right to reject all proposals and make no awards.

III. Eligibility Information

A. Authority

For FY 2005, EPA has been granted independent authority for the Targeted Watersheds Grant Program. This authority is contained in the Consolidated Appropriations (Omnibus Bill), Public Law 108-447. The new authority allows EPA to tailor the scope of the Targeted Watersheds Grant Program to better align with the goals of the Clean Water Act of fishable, swimmable waters, and the objectives of the Agency's strategic plan to protect the environment and safeguard human health. This clears the way for EPA to fund a broader range of projects and allows the Agency to fund projects that directly entail environmental protection and/or restoration activities, most specifically, on-the-ground implementation projects.

Regulations pertaining to EPA grants and other assistance agreements are in Title 40 of the Code of Federal Regulations (CFR) parts, 30, 31, and 40. All costs incurred under this program must be allowable under the applicable OMB Cost Circulars: A-87 (States and local governments), A-122 (nonprofit organizations), or A-21 (universities). Copies of these circulars can be found at http://www.whitehouse.gov/omb/circulars/. In accordance with EPA policy and the OMB circulars, as appropriate, any recipient of funding must agree not to use assistance funds for lobbying, fund-raising, or political activities (e.g., lobbying members of Congress or lobbying for other Federal grants, cooperative agreements, or contracts).

B. Eligible Applicants

Any governmental or nonprofit non-governmental entity is eligible to receive a grant under the Targeted Watersheds Grant Program. Recipients can include: States and tribes, public water pollution control agencies; interstate or inter-tribal agencies; public or non-profit private agencies, institutions, or organizations; and individuals. All non-profit watershed organizations are eligible and are encouraged to submit a nomination. Watershed organizations that were selected for funding in 2003 or 2004 are not eligible. For-profit commercial entities are ineligible for funding but are strongly encouraged to be active partners. The term “State” is defined to include the District of Columbia, Puerto Rico, U.S. Virgin Islands, Guam, American Samoa, and the Northern Mariana Islands (40 CFR 31.3).

Interjurisdictional watershed partnerships, that is, those that encompass abutting areas and, thus, neighboring political authorities, or that transcend international boundaries, are encouraged. Watershed nominations that encompass more than one governmental authority will be considered interjurisdictional, provided that the appropriate water agency in the adjacent jurisdiction is a partner or otherwise supports the project(s).

C. Eligible Activities

EPA will consider any activity, apart from those listed below, that will result in the protection, preservation, and restoration of a watershed, that incorporates a watershed-based approach, and meets the prescribed criteria, e.g, is well developed and will produce measurable environmental outcomes. Activities proposed for funding are not necessarily expected to address the entire watershed, but are expected to have been developed based on a comprehensive assessment and plan for the watershed. As such, all activities must directly support the described watershed plan, and Targeted Watersheds Grant funds must be used in accordance with the plan. Examples of selected proposals and funded activities from 2003 and 2004 can be found on the Web site at http://www.epa.gov/owow/watershed/initiative/2003/ and http://www.epa.gov/owow/watershed/initiative/2004/, respectively.

EPA has chosen to declare certain activities ineligible for funding. These include any proposals to directly support activities required under the Clean Water Act. This entails funds for the development of Total Maximum Daily Loads (TMDLs), and Office of Water regulatory programs including Phase II Stormwater projects. Proposals implementing the non-regulatory component of TMDLs, e.g. the elements of a watershed plan that address non-point pollution, however, are eligible. The construction of buildings or other major structures, or the purchase of major equipment or machinery, also will not be funded under this Program. Proposals containing subgrant programs (also called pass-through grants) are allowed, but the subgrant portion must account for no more than 20% of the requested funding amount.

D. Cost Sharing/Matching Requirements

EPA is requiring applicants to demonstrate a minimum non-Federal match of 25% of the total cost of the project or projects. This means EPA will fund a maximum of 75% of the total project cost. EPA encourages applicants to leverage as much investment as possible. In addition to cash, matching funds can come from in-kind goods and services, such as the use of volunteers and their donated time, equipment, expertise, etc., consistent with the regulations governing matching fund requirements (40 CFR 31.24 or 40 CFR 30.23). Federal funds may not be used to meet the match requirement for this grant program unless authorized by the statute governing their use.

Tribes and Tribal watershed groups may be exempt from this match requirement if they are constrained to such an extent that fulfilling the match requirement would impose undue hardship. Tribes wishing to be exempt from the minimum 25% match requirement must submit a one-page written request with justification. Exemption requests should be sent directly to the EPA Headquarters contact listed in section VII, forty-five (45) days prior to the nomination deadline. If approved, the nomination will be scored as if it meets the minimum 25% match.

IV. Application and Submission Information

EPA will select watersheds and will award the grants through a national competition. Nominations will be selected based on the quality of the written materials received and adherence to the selection criteria and goals of the Targeted Watersheds Grant Program. Emphasis will be placed on those proposed projects with clear objectives, measurable environmental indicators, and an executable monitoring plan. Funding decisions will be made based on the evaluation criteria outlined in section V.A of this notice. EPA will invite only those nominees whose proposals are selected under this Program to submit formal grant applications (section VI).

A. Nomination Process

Watersheds must be nominated by Governors or Tribal Leaders. (For the purposes of this notice, a tribal nomination may be submitted by an elected Tribal Official.) Each Governor or Tribal Leader may prepare or solicit watershed proposals from eligible entities in a manner most appropriate to their State or tribe, and nominate the most meritorious to EPA.

A Governor or Tribal Leader may nominate up to two watersheds, each of which is wholly within its boundaries, plus an unlimited number of interjurisdictional watersheds, i.e., those that encompass several States, Tribes or countries. For interjurisdictional watersheds, any of the engaged Governors/Tribal Leaders may submit the nomination. Such watershed nominations must include an official endorsement of all partnering States or Tribes in their nomination package. Governors and Tribal Leaders are to submit their watershed nominations to EPA.

B. Content and Form of Nomination Package

In preparing nomination materials, nominees should focus on the overarching goal by which their overall nomination will be judged, i.e, how the proposed projects are interrelated to benefit the whole watershed. Within the required components outlined below, nominees should address completely and to the best of their ability, the criteria the Agency will be using in its evaluation as outlined in section V.A below.

Each nomination package must contain the components listed in this section. Failure to submit any of this information ultimately will result in disqualification and removal from the selection process. Conversely, additional, unsolicited material is strongly discouraged and any such material submitted will not be reviewed.

1. Nomination Letter. A letter signed by the Governor or Tribal Leader formally nominating the watershed for consideration for funding must accompany each nomination package.

2. Title Page. The title page must indicate: (1) The name of the watershed along with the designated 8-digit Hydrological Unit Code(s) (HUCs); (2) if applicable, the impaired waters, such as any degraded stream segments within the project area that are on the State's 303(d) list; (3) nominee contact information, i.e., name, affiliation, address, telephone, and e-mail of the person with whom the Agency should correspond; and (4) Internet Web site (i.e., URL) of the organization if available. HUCs (also known as USGS Cataloging Units) and State 303(d) listings can be found on EPA's Surf Your Watershed Web site at http://www.epa.gov/surf/locate/index.cfm.

3. Abstract. A 150-word or less summary of the nomination.

4. Project Description. The narrative description of the proposed activities is limited to a total of ten, double-spaced pages in which the following components are addressed. The page numbers shown in parentheses for each component listed below are suggested lengths only, and nominees may adjust their project description within the 10-page limit in a manner that best fits their needs.

(a) Introduction (2 pages).

Characterize the watershed, including any wetlands, and overall watershed planning efforts. Describe what efforts have been undertaken to improve watershed health, next steps, and future plans. An assessment of the natural resource and environmental conditions, and an identification of problem sources and areas for treatment are required. These include:

(1) A description of the watershed's biological, physical, and, if relevant, socio-economic and/or cultural characteristics.

(2) An identification and prioritization of the threats and impairments facing the watershed, focusing on those that will be addressed by the proposal.

(3) An overall description of the watershed plan including short- and long-term watershed goals.

(4) An identification of the assessments and plans that have been completed to date.

(b) Description of the Proposed Projects (7 pages).

Describe the projects to be funded under the Targeted Watersheds Grant Program. These should be described in terms of activities that will meet the stated objectives and yield positive environmental outcomes. The following information must be included:

(1) Describe how the project(s) will improve the identified impairments or stream conditions. Explain how the projects fit together and are interrelated to benefit and affect watershed health.

(2) Describe in detail each project (if more than one) including: (i) A description of the components and goals of the project(s), (ii) a schedule for implementing the project(s); (iii) a summary of the costs of the project(s) with reference to the appended itemized budget for details; and (iv) milestones and dates for determining whether or not the intended goals of the watershed project(s) are being realized.

(3) Describe the monitoring and evaluation component along with identified environmental indicators. Attention should be given to additional pre-project baseline data requirements. This component must include performance measures and progress goals, as well as a description of how the ultimate success of the projects will be measured. Performance measures must be environmental (e.g., chemical or microbial levels attained). Other measures to be monitored should be infrastructural (e.g., additional partnerships formed) and implementational (e.g., on-the-ground work performed). The progress and performance of the projects must be measurable by technically sound practices.

(4) Include a description of expected environmental outcomes. Describe the method to measure the environmental improvement that is expected to result from the project(s) and describe how the project(s) will be evaluated. Criteria by which the project(s) will be judged and by which the project will be considered successful should be incorporated into the description.

(5) Describe how the projects complement or are consistent with other EPA, Federal, and/or State programs or mandates. Other Federal contributors or supporting partners should also be identified.

(c) Description of Outreach Activities (1 page).

Describe the information and outreach plan that will be used to enhance public understanding of the watershed and encourage participation in the local project or projects, and future activities regarding implementing the goals of the watershed plan. Because the selected watersheds are intended to serve as models for other communities, describe the outreach plan and how it will transfer the knowledge gained from this effort to other areas and organizations.

5. Budget. Provide a detailed breakdown of cost by category for each project.

(a) Standard Budget Form. To facilitate the compilation and review of financial information, the Agency is providing a standard form for potential applicants to use when submitting project budgets. This form (Table 1) may be reconstructed or downloaded from the Targeted Watersheds Web site at http://www.epa.gov/owow/watershed/initiative/budget.form. All budget information, including grant administration costs, matching funds and other leveraged services, and travel cost to the annual conference, must be provided on this form. (Information on matching funds and the annual conference is described in subsections (b) and (c) below). Nominees should include cost estimates for each of the proposed project activities to be conducted under the grant. Due to the increase in grant management requirements, EPA suggests that nominees budget up to 15% of the total project costs for administrative purposes.

Explanations of the costs associated with each entry should be included in the narrative portion of the nomination package.

Table 1.—Budget Information—EPA Targeted Watersheds Grant Program ¹
Watershed Project, Activity or Work Plan Element | Federal | Non-Federal | Total
SECTION A—BUDGET SUMMARY
1. | $ | $ | $
2. |  |  |
3. |  |  |
4. |  |  |
Totals | $ | $ | $
¹ Excerpted from Standard Form 424A, OMB Circular A-102.

Budget Categories | Watershed Project, Activity or Work Plan Element: (1) | Watershed Project, Activity or Work Plan Element: (2) | Watershed Project, Activity or Work Plan Element: (3) | Watershed Project, Activity or Work Plan Element: (4) | Total
SECTION B—BUDGET CATEGORIES
a. Personnel | $ | $ | $ | $ | $
b. Fringe Benefits |  |  |  |  |
c. Travel |  |  |  |  |
d. Equipment |  |  |  |  |
e. Supplies |  |  |  |  |
f. Contractual |  |  |  |  |
g. Construction |  |  |  |  |
h. Other |  |  |  |  |
i. Total Direct Charges (sum line a-h) |  |  |  |  |
j. Indirect Charges |  |  |  |  |
Totals (sum line i-j) | $ | $ | $ | $ | $

(b) Matching Requirement. Applicants must demonstrate a minimum non-Federal match of 25% of the total cost of the project or projects. This means EPA will fund a maximum of 75% of the total project cost. To determine if the minimum match is met, the following formulas may be helpful:

amount ($) requested from EPA × 100 ≤ 75 or

cost ($) of entire project

amount ($) requested from EPA = minimum match ($)

3

For example, a $1.2M grant could be used to support a $1.6M project proposal. Another way of looking at this is if the nominee requests $1M, it must be able to provide $333,334.00 in matching funds or services. In this example, the total cost of the proposal would be just under $1.34M. Please contact your Regional contact person listed in section VII if you have any questions about calculating the match requirement.

(c) Annual Conference. Watershed organizations selected for grant funding will be required to attend the annual three-day National Targeted Watersheds Conference during each year of the grant. The purpose of this conference is to provide these watershed organizations with training and support to better restore, protect, and manage their watersheds, provide help and assistance in Agency grants management requirements and, most importantly, provide grant recipients with opportunities to share successful approaches with each other and other peer-to-peer learning opportunities.

Attendance at the conference will be mandatory and will be one of the Terms and Conditions of the grant. The grantee will be allowed to use the grant funds to pay for travel and lodging. The cost of hosting the conference will be paid for by EPA. If the recipient wishes to use the award money for travel expenses, these costs must be included in the submitted proposed budget. The Agency will make every effort to hold the three-day conference in a central location to minimize travel costs.

(d) Information Technology. Also as a Term and Condition of the grant, recipients will be required to institute standardized reporting requirements into their workplans and include such costs in their budgets. All environmental data will be required to be entered into the Agency's Storage and Retrieval (STORET) data system and recipients may need to purchase appropriate ORACLE software. STORET is a repository for water quality, biological, and other physical data used by State environmental agencies, EPA and other Federal agencies, universities, private citizens, and many other organizations. An introduction to the STORET system will be provided at the annual conference, as well as information regarding training sessions sponsored by EPA. Watershed organizations may also want to contact their State agency responsible for entering data into the system. More information about STORET can be found at http://www.epa.gov/STORET.

6. Appendices.

(a) Experience in Grant Management (1 page maximum).

To ensure that nominees possess the management and technical skills required to administer the grant, a description of management experience is needed. In a 1-page appendix to the project description, provide information on the past experience of the project leader(s) and/or partners in designing, implementing, coordinating activities, and effectively managing a Federal grant. Identify the entity that will be the grantee and thus responsible for the administration of the grant workplan and for being the fiscal agent receiving the funds. Include academic experience only if relevant to the proposal. Do not send resumes.

(b) Letter(s) of Support.

To substantiate the information contained in the narrative portion of the submission, documentation to verify partnerships and matching funds is required. Items that must accompany the narrative description and submitted as appendices include the following items.

(i) Signed letter(s) from active partners indicating their commitment to implementing the workplan or for specific proposed projects.

(ii) A minimum of one signed letter from an entity committing to provide matching funds, either in cash or in-kind goods and services, including the total value of its commitment toward the projects.

(iii) For interjurisdictional nominations, a signed letter(s) from the appropriate organization in the adjacent State, tribe, or country expressing their support and participation in the proposed project(s). For example, a letter from another Governor, Tribal leader, State water commissioner, State water quality director, environmental director, or similar position in Canada or Mexico is acceptable.

(c) Map. A map of the watershed and the proposal work areas is required.

C. Format

Each nomination package must contain: (1) A one-page cover letter signed by the Governor or Tribal Leader, (2) a title page with appropriate information, (3) a 150-word or less abstract, (4) project description, (5) the budget form, (6) a one-page description of grant management experience, (7) letter(s) and certification(s) of support, and (8) maps. The project description of the nomination must be no more than ten double-spaced pages long, using a 12-point conventional font and one inch margins. This section must include all of the required components listed in section IV.B. To ensure a fair and equitable evaluation of the nominations, please do not exceed the above limits. A nomination that contains a project description narrative that exceeds ten double-spaced pages will not be considered. The title page, abstract, and required appendices will not count toward the 10-page limit. The entire nomination package should be printed on 8½″x11″ paper.

D. Submission Process

EPA invites each Governor and Tribal Leader to submit nominations for grants under the 2005 Targeted Watershed Grants Program.

Nominations must be received by EPA by May 19, 2005.

1. Electronic. EPA is requiring that a portion of the nomination be submitted electronically. Please send an electronic copy of only the title page, abstract, project description, and budget form to the electronic mailbox at initiative.watershed@epa.gov. Electronic submissions are limited to 120 KB in size and one submission per nomination. Please do not send maps, letters of support, match certifications, or pictures of any kind via the electronic mailbox. The subject line should be in the format “STATE—Watershed Name” (e.g., MD—Rock Creek). No confidential business information should be sent via e-mail. If unusual or extraordinary circumstances prevent electronic submission of the nomination, please contact the appropriate Regional contact person to discuss alternate arrangements.

2. Paper. Two hard copies of the complete nomination package (including all nominating and support letters) are required to be sent by express mail or courier service. One package is to be sent to EPA Headquarters and the other is to go to the appropriate Regional Office. All names and addresses are listed below. Mark all submissions: ATTN: Targeted Watersheds.

E. Submission Addresses

Submissions must be delivered to the following:

Headquarters:

Carol Peterson, Office of Wetlands, Oceans, and Watersheds; U.S. EPA; Rm. 7136; 1301 Constitution Avenue; NW., Washington, DC 20004.

EPA Regional Offices:

Region I—Connecticut, Maine, Massachusetts, Rhode Island, Vermont, New Hampshire

Marilyn Smith-Church; U.S. EPA Region 1; 1 Congress Street, Suite 1100; Mail Code CWN; Boston, MA 02114-2023.

Region II—New Jersey, New York, Puerto Rico, U.S. Virgin Islands

Cyndy Kopitsky, U.S. EPA Region 2; 290 Broadway; 24th Floor; New York, NY 10007-1866;

Region III—Delaware, Maryland, Pennsylvania, Virginia, West Virginia, Washington, DC

Ralph Spagnolo; U.S. EPA Region 3; Mail Code 3WP12; 1650 Arch Street; Philadelphia, PA 19103-2029.

Region IV—Alabama, Florida, Georgia, Mississippi, North Carolina, South Carolina, Kentucky, Tennessee

William L. Cox; U.S. EPA Region 4; Sam Nunn Atlanta Federal Center; 15th Floor; 61 Forsyth Street, SW.; Atlanta, GA 30303-3104.

Region V—Illinois, Indiana, Michigan, Minnesota, Ohio, Wisconsin

Paul Thomas; U.S. EPA Region 5; Mail Code WW-16J; 77 W. Jackson Blvd; Chicago, IL 60604.

Region VI—Louisiana, Texas, Oklahoma, Arkansas, New Mexico

Brad Lamb; U.S. EPA Region 6; Mail Code 6WQ-EW; 1445 Ross Avenue; Dallas, TX 75202.

Region VII—Iowa, Kansas, Missouri, Nebraska

Margaret Stockdale; U.S. EPA Region 7; Mail Code WWPD/GPCB; 901 North 5th Street; Kansas City, KS 66101.

Region VIII—Colorado, Montana, North Dakota, South Dakota, Utah, Wyoming

Peter Ismert; U.S. EPA Region 8; Mail Code 8EPR-EP; 999 18th Street, Suite 300; Denver, CO 80202-2466.

Region IX—Arizona, California, Hawaii, Nevada, American Samoa, Mariana Islands, Guam

Sam Ziegler; U.S. EPA Region 9; Mail Code WTR-3; 75 Hawthorne Street; San Francisco, CA 94105.

Region X—Alaska, Idaho, Oregon, Washington

Bevin Reid; U.S. EPA Region 10; Mail Code OWW-137; 1200 Sixth Avenue; Seattle, WA 98101

F. Checklist

To assist nominees in collecting and formatting their package materials, the following checklist is provided (Table 2). These factors will be used by the Agency in screening the nominations for eligibility. The absence of any of these factors could result in disqualification from the onset without notice.

Table 2.—Checklist of Required Elements
1. Package Components:
Nominating letter signed by the Governor or Tribal Leader or Tribal Official | ☐
Title page | ☐
150-word Abstract | ☐
10-page Project Description | ☐
Budget form | ☐
1-page description of Grant Management Experience | ☐
Letter(s) signed by active partners | ☐
Letter(s) committing matching funds | ☐
Letters(s) supporting inter-jurisdictional nominations (if applicable) | ☐
Map(s) | ☐
2. Project Description Format:
12-point font size | ☐
Double-spaced | ☐
1″ Margins | ☐
8½ x 11″ paper | ☐
3. Match Requirement:
25% Minimum match | ☐
Match includes Federal funds and applicant has cited authority | ☐
Waiver of match requested due to undue hardship (Tribal only) | ☐
4. Submission:
1 hard copy of all materials sent to EPA Headquarters | ☐
1 hard copy of all materials sent to appropriate EPA Regional Office | ☐
Electronic copy of narrative text only sent to initiative.watershed@epa.gov (subject line: STATE-Watershed Name) | ☐

V. Application Review Information

A. Evaluation Criteria

Watershed nominations will be reviewed, evaluated, and scored based on the following criteria with a possible total score of 60 points.

1. Innovation (10 points). Emphasis will be placed on progressive and forward-thinking projects and watershed nominations that undertake unique, innovative, or novel approaches to environmental problem-solving. The Agency recognizes that there can be innovative approaches that do not involve trading. However, for proposals that incorporate trading approaches to water quality, EPA will view more favorably projects that have the following characteristics: a TMDL or other “cap” for the pollutant is either in place or is imminent; a pollutant that comes from numerous (point and nonpoint) sources within the watershed and several sources have a pollutant control obligation; and some sources that are likely to have significantly different control costs to achieve the desired pollutant reductions.

2. Tangible Solutions (total of 30 points). Nominees will be evaluated based on the extent they demonstrate an in-depth knowledge of the watershed ecology, present a sound approach for combating threats and impairments, and include a description of how environmental results can be achieved and measured. Under this criteria, reviewers will focus on the following components:

(a) Feasibility (10 points). Reviewers will look at how well developed the project is, i.e., the readiness of the project, technical merit, and expected environmental improvements. The focus will be on nominations that describe projects that are part of larger watershed assessments and plans, and reflect a watershed-based approach to conservation and restoration. The evaluation will focus on the overall soundness of the nomination from both an ecological and design perspective with an emphasis on those projects that can be implemented quickly. In summary, the evaluation will focus on whether nominees have demonstrated an understanding of priority water resource problems within the watershed, have substantially completed the assessment and planning phase, and are prepared to begin work.

(b) Environmental Measures (15 points). Under this criterion, a nomination will be evaluated based on how well it is supported by a clearly articulated set of performance and progress measures, and identified and measurable environmental indicators. A more detailed monitoring and data collection strategy is preferred. Reviewers will evaluate the proposal in relation to its likelihood to achieve predicted measurable, defensible environmental results in a relatively short time period, including potentially attaining expected outcomes, reaching project goals, and producing on-the-ground, quantifiable environmental change using sound science.

(c) Integration (5 points). Reviewers will evaluate the extent to which the proposed project plan provides an approach that integrates various tools including, but not limited to, those provided by local, State, Tribal and Federal programs, to solve the environmental problems. Emphasis will be placed on how well the proposal demonstrates a thoughtful and a strategic approach to problem-solving.

3. Broad Support (total of 10 points). Acknowledging and responding to representative interests from a broad and varied perspective is crucial to any successful watershed enterprise. This criteria will be based on the nominees ability to demonstrate and substantiate a strong collaborative effort.

(a) Partnerships (5 points). The reviewers will examine whether the watershed nomination incorporates a wide variety of public, private, and non-profit participation. The evaluation will be based on the level to which a nominee can demonstrate strong and diverse stakeholder stewardship and support. Reviewers will look for documented, effective working relationships among State, Tribal, and local entities, along with evidence of broad-based community involvement.

(b) Interjurisdictionality (5 points). Reviewers will evaluate whether the nomination actively involves more than one governmental entity, be it municipal, county, State, Tribal, Federal or country. Reviewers will look at the depth and breadth of jurisdictional participation and will also take into consideration any significant parties that are noticeably absent in lending their support of the nomination.

4. Outreach (5 points). Proposals will be evaluated on the design and breadth of their outreach program with an emphasis on those proposals that demonstrate a clear strategy for transferring the knowledge and experience garnered over the next few years to other watersheds with similar environmental conditions. Reviewers will also assess how the proposal addresses training and educational approaches to disseminating information about successful approaches and results.

5. Financial Integrity (5 points). The evaluation will examine the adequacy of the budget information provided, and whether the budget is reasonable and clearly presented. Reviewers will also consider the extent that the proposal exceeds the minimum match requirement or can certify a broad range of leveraging capacity.

B. Review and Selection Process

Governors and Tribal Leaders are to submit their watershed nominations to EPA. Once received by EPA, the nominations will undergo four phases of review. In phase one, all nominations will be pre-reviewed, or screened, by EPA Regional staff to determine if they are eligible, complete, and prepared in accordance with the instructions provided in this notice. If any of the required elements of the nomination package are inadvertently omitted, EPA may choose to contact the nominee. In phase two, each of the Agency's Regional Offices will convene a Review and Evaluation Panel to initially assess how well the nominations meet the evaluation criteria described above. Based on the panel review and recommendations, each Regional Administrator will then forward the Region's top three candidates to EPA Headquarters Office of Water in Washington, DC.

Phases three and four of the review process will occur at the national level. Upon receipt of the Regional recommendations, the Office of Water will convene a Technical Advisory Panel consisting of representatives from the Agency's Program and Regional Offices to review and rank the watershed nominations. In addition to the evaluation criteria listed above, factors such as geographic diversity, project diversity, watershed size, urban/rural mix, and cost will be considered in ranking nominations. During phase four, the National Panel will present its findings and recommendations to the Assistant Administrator of Water for approval and transmittal to the Administrator. The Administrator will make the final decision on the watersheds to be funded. Finalists will be contacted by telephone. All nominees, including those who are not selected for funding, will be notified by mail.

EPA expects to announce the selected watershed nominations in the summer of 2005. Selected watershed grantees will complete the grant award process, including final grant workplan negotiations through the appropriate EPA Regional Office in the fall of 2005. In general, grants awarded will be one-time awards and grant recipients should use the funds within 2-3 years (slightly longer for trading projects). Any subsequent Targeted Watersheds Grant funding would involve a new call for watershed nominations and is predicated on continued appropriations. Therefore, any proposal for work beyond the initial funding period would need to be submitted through the competitive process and will not receive preferential consideration based on the applicant's previous award.

VI. Post-Selection Award Administration Information

A. Applying for a Grant

EPA will invite only nominees whose proposals are selected to submit grant applications. Once notified that their proposal has been selected for funding, the nominee will have 60 days to complete the formal grant application process (i.e., Application for Federal Assistance, Standard Form 424 et al). The standard EPA grants application package must be filed according to Agency guidelines. Detailed information and assistance, including an application kit, required forms, and a check list, can be found at http://www.epa.gov/ogd/AppKit/. In anticipation of this process, all potential nominees may want to explore the above Web site for useful and pertinent information prior to preparing and submitting their nomination materials.

A new policy directive from the Office of Management and Budget effective October 1, 2004 requires grant applicants to provide a number from the Dun and Bradstreet (D&B) Data Universal Numbering System (DUNS) when applying for Federal assistance agreements. Organizations can receive a DUNS number at no cost by calling the toll free DUNS number request line at 1-866-705-5711. Additional information on obtaining a DUNS number can also be found at: http://www.dnb.com.

The Catalog of Federal Domestic Assistance number for this program is 66.439 Targeted Watershed Initiative. Any disputes regarding proposals or applications submitted in response to these guidelines will be resolved in accordance with 40 CFR 30.63 and part 31, subpart F. Applicants will be notified if dispute provisions change. Applicants should clearly mark information they consider confidential. EPA will make final confidentiality determinations in accordance with regulations in 40 CFR part 2, subpart B.

Although the selections will be announced at the national level, Targeted Watershed grants will be awarded and managed by the respective EPA Regional Offices. Selected nominees may be asked to modify objectives, workplans, or budgets prior to final approval of the grant award. The exact amount of funds to be awarded, the final scope of activities, the duration of the projects, and specific role of the EPA Regional Project Officer will be determined in the pre-award negotiations between the selected nominee and EPA. The designated EPA Regional Contact listed in section VII will be available to provide additional guidance in completing the grant application, and other necessary forms, and answering any questions. EPA will also work with the applicant to comply with the Intergovernmental review requirements of Executive Order 12372 and 40 CFR part 29. Grant applicants will receive a notice of award through postal mail. The notice of award signed by the Award Official (or equivalent) in the Grants Administration Division is the authorizing document, and will be mailed to the individual signing the original application.

B. Administrative and National Policy Requirements

Certain quality assurance and/or quality control (QA/QC) and peer review requirements are applicable to the collection of environmental data. Applicants should allow sufficient time and resources for this process in their proposed projects. Environmental data are any measurements or information that describe environmental processes, location, or condition; ecological or health effects and consequences; or the performance of environmental technology. Environmental data also include information collected directly from measurements, produced from models, and obtained from other sources such as data bases or published literature. Regulations pertaining to QA/QC requirements can be found in 40 CFR 30.54 and 31.45. Additional guidance can be found at http://www.epa.gov/quality/qa_docs.html#noeparqt.

C. Reporting

Project monitoring and reporting requirements can be found in 40 CFR 30.50-30.52, 40 CFR 31.40-31.41 and 40 CFR 40.160.1-40.160.5. In general, grantees are responsible for managing the day-to-day operations and activities supported by the grant to assure compliance with applicable Federal requirements, and for ensuring that established milestones and performance goals are being achieved. Performance reports and financial reports must be submitted quarterly and are due 30 days after the reporting period. The format of these reports will be identified during the grant application time frame, and will include reporting on established performance measures indicated in the project description (i.e., environmental, infrastructure, and implementation measures). The final report is due 90 days after the grant has expired. Grant managers should consult, and work closely with, their Regional contact person throughout the award period.

VII. Agency Contacts

Headquarters:

Carol Peterson, telephone 202-566-1034; e-mail initiative.watershed@epa.gov.

EPA Regional Offices:

Region I—Connecticut, Maine, Massachusetts, Rhode Island, Vermont, New Hampshire

Marilyn Smith-Church or Jerry Potamis, telephones 617-918-1133 and 617-918-1651; e-mails smith-church.marilyn@epa.gov and potamis.gerald@epa.gov, respectively.

Region II—New Jersey, New York, Puerto Rico, U.S. Virgin Islands

Cyndy Kopitsky; telephone 212-637-3832; e-mail kopitsky.cyndy@epa.gov.

Region III—Delaware, Maryland, Pennsylvania, Virginia, West Virginia, Washington, DC

Ralph Spagnolo, telephone 215-814-2718; e-mail spagnolo.ralph@epa.gov.

Region IV—Alabama, Florida, Georgia, Mississippi, North Carolina, South Carolina, Kentucky, Tennessee

William L. Cox, telephone 404-562-9351; e-mail cox.williaml@epa.gov.

Region V—Illinois, Indiana, Michigan, Minnesota, Ohio, Wisconsin

Paul Thomas, telephone 312-886-7742; e-mail thomas.paul@epa.gov.

Region VI—Louisiana, Texas, Oklahoma, Arkansas, New Mexico

Brad Lamb, telephone 214-665-6683; e-mail lamb.brad@epa.gov.

Region VII—Iowa, Kansas, Missouri, Nebraska

Margaret Stockdale, telephone 913-551-7936; e-mail stockdale.margaret@epa.gov.

Region VIII—Colorado, Montana, North Dakota, South Dakota, Utah, Wyoming

Peter Ismert; telephone 303-312-6215; e-mail ismert.peter@epa.gov.

Region IX—Arizona, California, Hawaii, Nevada, American Samoa, Mariana Islands, Guam

Sam Ziegler, telephone 415-972-3399; e-mail ziegler.sam@epa.gov.

Region X—Alaska, Idaho, Oregon, Washington

Bevin Reid, telephone 206-553-1566; e-mail Reid.BevinG@epa.gov.

Dated: February 14, 2005.
Benjamin H. Grumbles,
Assistant Administrator for Water.

[FR Doc. 05-3184 Filed 2-17-05; 8:45 am]

BILLING CODE 6560-50-P